DEPARTMENT OF AGRICULTURE

Animal and Plant Health Inspection Service

7 CFR Part 371

[Docket No. 04-120-1]

Delegation of Authority

AGENCY: Animal and Plant Health Inspection Service, USDA.

ACTION: Final rule.

SUMMARY: This document delegates the authority given to the Administrator of the Animal and Plant Health Inspection Service to administer section 101(k) of the Rural Development, Agriculture, and Related Agencies Appropriations Act of 1988, more commonly known as the Act of December 22, 1987. Authority is delegated from the Administrator of the Animal and Plant Health Inspection Service to the Deputy Administrator of Wildlife Services. This delegation has already been made, however it is not reflected in the Code of Federal Regulations. Therefore, this document corrects that oversight.

EFFECTIVE DATE: December 21, 2004.

FOR FURTHER INFORMATION CONTACT: Mr. John A. Sinclair, Staff Officer, Operational Support Staff, WS, APHIS, 4700 River Road Unit 87, Riverdale, MD 20737-1231; (301) 734-7921.

SUPPLEMENTARY INFORMATION:

Background

On January 10, 2000, the Animal and Plant Health Inspection Service (APHIS) published a final rule in the Federal Register (65 FR 1298-1302, Docket No. 97-025-1) that revised the statement of organization, functions, and delegations of authority of APHIS in 7 CFR part 371 to reflect changes in internal APHIS organization. The rule included delegations of authority from the Administrator of APHIS to the Deputy Administrator of Wildlife Services. However, we inadvertently omitted the delegation of authority from the Administrator to the Deputy Administrator of Wildlife Services for section 101(k) of the Rural Development, Agriculture, and Related Agencies Appropriations Act of 1988, also known as the Act of December 22, 1987. This delegation of authority had already been made, however it is not reflected in the Code of Federal Regulations. Therefore we are amending 7 CFR 371.6(b)(2) to correct this oversight.

This rule relates to internal agency management. Therefore, this rule is exempt from the provisions of Executive Order 12866 and 12988. Moreover, pursuant to 5 U.S.C. 553, notice of proposed rulemaking and opportunity for comment are not required for this rule, and it may be made effective less than 30 days after publication in the Federal Register. In addition, under 5 U.S.C. 804, this rule is not subject to congressional review under the Small Business Regulatory Enforcement Fairness Act of 1996, Pub. L. 104-121. Finally, this action is not a rule as defined by 5 U.S.C. 601 et seq., the Regulatory Flexibility Act, and thus is exempt from the provisions of that Act.

List of Subjects in 7 CFR Part 371

Authority delegations (Government agencies), Organization and functions (Government agencies).

Accordingly, 7 CFR part 371 is amended as follows:

PART 371—ORGANIZATIONS, FUNCTIONS, AND DELEGATIONS OF AUTHORITY

1. The authority citation for part 371 continues to read as follows:

Authority: 5 U.S.C. 301.

2. In § 371.6, paragraph (b)(2) is revised to read as follows:

§ 371.6 Wildlife Services.

* * * * *

(b) * * *

(2) Providing direction and coordination for programs authorized by the Act of March 2, 1931 (7 U.S.C. 426 and 426b, as amended) and the Act of December 22, 1987 (7 U.S.C. 426c).

* * * * *

Done in Washington, DC, this 14th day of December, 2004.
Elizabeth E. Gaston,
Acting Administrator, Animal and Plant Health Inspection Service.

[FR Doc. 04-27879 Filed 12-20-04; 8:45 am]

BILLING CODE 3410-34-P